DEPARTMENT OF ENERGY

Secretary of Energy Advisory Board

AGENCY: Office of the Secretary, Department of Energy.

ACTION: Notice of open meeting.

SUMMARY: The Department of Energy hereby publishes a notice of open meeting on May 21, 2020, of the Secretary of Energy Advisory Board. Due to the COVID-19 pandemic, this meeting will be entirely virtual on-line.

DATES: May 21, 2020; from 2:00 p.m. to 4:00 p.m. (EDT).

ADDRESSES: Virtual meeting. To receive the call-in number and passcode, please contact the Board's Designated Federal Officer (DFO) at the address or phone number listed below.

FOR FURTHER INFORMATION CONTACT: Kurt Heckman, SEAB Designated Federal Officer, U.S. Department of Energy, 1000 Independence Avenue SW, Washington, DC 20585; Phone: (202) 586-1212; email: seab@hq.doe.gov.

SUPPLEMENTARY INFORMATION:

Background: The Board was established to provide advice and recommendations to the Secretary on the Administration's energy policies; the Department's basic and applied research and development activities; economic and national security policy; and other activities as directed by the Secretary.

Purpose of the Meeting: This meeting is the fourth meeting of existing and new members under Secretary Perry, and now Secretary Brouillette.

Tentative Agenda: The meeting will start at 2:00 p.m. on May 21th. The tentative meeting agenda includes: Introduction of SEAB's members, status briefings from the subcommittees (Innovation, Artificial Intelligence, and Space), a briefing on DOE's response to COVID-19, open discussion from SEAB to the Secretary, and an opportunity for comments from the public. The meeting will conclude at 4:00 p.m.

Public Participation: The meeting is open to the public. Individuals who would like to attend must RSVP to Kurt Heckman no later than 5:00 p.m. on Thursday, May 14, 2020, by email at: seab@hq.doe.gov.

Individuals and representatives of organizations who would like to offer comments and suggestions may do so during the meeting. Approximately 15 minutes will be reserved for public comments. Time allotted per speaker will depend on the number who wish to speak but will not exceed five minutes. The Designated Federal Officer is empowered to conduct the meeting in a fashion that will facilitate the orderly conduct of business. Those wishing to speak should register to do so via email, seab@hq.doe.gov, no later than 5 p.m. on Thursday, May 14, 2020.

Those not able to attend the meeting or who have insufficient time to address the committee are invited to send a written statement to Kurt Heckman, U.S. Department of Energy, 1000 Independence Avenue SW, Washington, DC 20585, or email to: seab@hq.doe.gov.

Minutes: The minutes of the meeting will be available on the SEAB website or by contacting Mr. Heckman. He may be reached at the above postal address or email address, or by visiting SEAB's website at www.energy.gov/seab.

Signed in Washington, DC, on April 21, 2020.
LaTanya Butler,
Deputy Committee Management Officer.

[FR Doc. 2020-08742 Filed 4-23-20; 8:45 am]

BILLING CODE 6450-01-P